DEPARTMENT OF TRANSPORTATION

Federal Aviation Administration

14 CFR Part 71

[Docket No. FAA-2022-0711; Airspace Docket No. 21-ANM-64]

RIN 2120-AA66

Amendment of Class E Airspace; Colorado Plains Regional Airport, CO.

AGENCY: Federal Aviation Administration (FAA), Department of Transportation (DOT).

ACTION: Final rule.

SUMMARY: This action modifies the Class E airspace designated as a surface area, modifies the Class E airspace extending upward from 700 feet above the surface, and removes the Class E airspace extending upward from 1,200 feet above the surface at Colorado Plains Regional Airport, CO. Additionally, this action makes several administrative modifications to update the airport's existing Class E airspace legal descriptions. These actions will support the safety and management of instrument flight rule (IFR) operations at the airport.

DATES: Effective 0901 UTC, February 23, 2023. The Director of the Federal Register approves this incorporation by reference under Title 1 CFR part 51, subject to the annual revision of FAA Order JO 7400.11, Airspace Designations and Reporting Points, and publication of conforming amendments.

ADDRESSES: FAA Order JO 7400.11G, and subsequent amendments can be viewed online at www.faa.gov/air_traffic/publications/. For further information, you can contact the Airspace Policy Group, Federal Aviation Administration, 800 Independence Avenue SW, Washington, DC 20591; telephone: (202) 267-8783.

FOR FURTHER INFORMATION CONTACT: Nathan A Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would modify the Class E airspace at Colorado Plains Regional Airport, CO, to support IFR operations at the airport.

History

The FAA published a notice of proposed rulemaking (NPRM) in the Federal Register for FAA-2022-0711 (87 FR 45723; July 29, 2022) to modify the Class E airspace designated as a surface area, modify the Class E airspace extending upward from 700 feet above the surface, remove the Class E airspace extending upward from 1,200 feet above the surface, and make administrative changes to the Class E legal descriptions. Interested parties were invited to participate in this rulemaking effort by submitting written comments on the proposal to the FAA. No comments were received.

Subsequent to publication of the NPRM in the Federal Register, the FAA identified a discrepancy with the proposed Class E2 legal description. The airport name is removed from the description, as it is in the second line of the header and duplication is not necessary.

Availability and Summary of Documents for Incorporation by Reference

This document amends FAA Order JO 7400.11G, Airspace Designations and Reporting Points, dated August 19, 2022, and effective September 15, 2022. FAA Order JO 7400.11G is publicly available as listed in the “ADDRESSES” section of this document. FAA Order JO 7400.11G lists Class A, B, C, D, and E airspace areas, air traffic service routes, and reporting points.

The Rule

The FAA is amending 14 CFR part 71 by modifying the Class E airspace designated as a surface area, modifying the Class E airspace extending upward from 700 feet above the surface, and removing the Class E airspace extending upward from 1,200 feet above the surface at Colorado Plains Regional Airport, CO.

The Class E airspace designated as a surface area is expanded to a 4.6-mile radius around the airport to more appropriately contain circling maneuvers.

Additionally, the Class E airspace extending upward from 700 feet above the surface is expanded to the southeast to contain aircraft conducting procedure turns for the VOR RWY 29 approach, as terrain exists within 1,500 feet of the minimum procedure turn altitude.

This action also removes the Class E airspace extending upward from 1,200 feet above the surface at the airport. This area is already contained within the Denver en route domestic airspace area and duplication is not necessary.

Finally, this action makes several administrative modifications to the airport's legal descriptions. The airport name in the text header was incorrect in the existing Class E2 and E5 legal descriptions. They now read “Colorado Plains Regional Airport, CO.” The geographic coordinates for the airport are updated to match the FAA's database. Lastly, the navigational aid (NAVAID) used in the existing Class E2 legal description is removed. The NAVAID has been reclassified and is not needed to describe the airspace. Its removal simplifies the airspace description.

Class E2 and E5 airspace designations are published in paragraphs 6002 and 6005, respectively, of FAA Order JO 7400.11G, dated August 19, 2022, and became effective September 15, 2022, which is incorporated by reference in 14 CFR 71.1. The Class E airspace designations listed in this document will be published subsequently in FAA Order JO 7400.11.

FAA Order JO 7400.11 is published annually and becomes effective on September 15.

Regulatory Notices and Analyses

The FAA has determined that this regulation only involves an established body of technical regulations for which frequent and routine amendments are necessary to keep them operationally current, is non-controversial, and unlikely to result in adverse or negative comments. It therefore: (1) is not a “significant regulatory action” under Executive Order 12866; (2) is not a “significant rule” under DOT regulatory policies and procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, Environmental Impacts: Policies and Procedures, paragraph 5-6.5a. This airspace action is not expected to cause any potentially significant environmental impacts, and no extraordinary circumstances exist that warrant the preparation of an environmental assessment.

List of Subjects in 14 CFR Part 71

Airspace, incorporation by reference, navigation (air).

Adoption of the Amendment

In consideration of the foregoing, the FAA amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR part 71.1 of FAA Order JO 7400.11G, Airspace Designations and Reporting Points, dated August 19, 2022, and effective September 15, 2022, is amended as follows:

Paragraph 6002 Class E Airspace Areas Designated as a Surface Area.

* * * * *

ANM CO E2 Akron, CO [Amended]

Colorado Plains Regional Airport, CO

(Lat. 40°10′32″ N, long. 103°13′19″ W)

That airspace extending upward from the surface within a 4.6-mile radius of the airport.

Paragraph 6005 Class E Airspace Areas Extending Upward From 700 Feet or More Above the Surface of the Earth.

* * * * *

ANM CO E5 Akron, CO [Amended]

Colorado Plains Regional Airport, CO

(Lat. 40°10′32″ N, long. 103°13′19″ W)

That airspace extending upward from 700 feet above the surface within 6.6 miles of the airport, and that airspace between 4 miles southwest and 8 miles northeast of the 123° bearing from the airport, extending from the 6.6-mile radius to 18.3 miles southeast of the airport.

Issued in Des Moines, Washington, on November 14, 2022.
B.G. Chew,
Group Manager, Operations Support Group, Western Service Center.

[FR Doc. 2022-25106 Filed 11-17-22; 8:45 am]

BILLING CODE 4910-13-P